INTERNATIONAL TRADE COMMISSION

[Investigation No. 337-TA-642]

In the Matter of Certain Catheters, Consoles and Other Apparatus for Cryosurgery and Components Thereof; Notice of Decision Not To Review an Initial Determination Granting a Joint Motion To Terminate the Investigation Based on a Settlement Agreement

AGENCY: U.S. International Trade Commission.

ACTION: Notice.

SUMMARY: Notice is hereby given that the U.S. International Trade Commission has determined not to review an initial determination (“ID”) (Order No. 19) issued by the presiding administrative law judge (“ALJ”) terminating the investigation based on a settlement agreement.

FOR FURTHER INFORMATION CONTACT: Mark B. Rees, Office of the General Counsel, U.S. International Trade Commission, 500 E Street, SW., Washington, DC 20436, telephone (202) 205-3116. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: On March 27, 2008, the Commission instituted this investigation based on the complaint, as supplemented, of CryoCor, Inc. of San Diego, California (“CryoCor”) and AMS Research Corporation of Minnetonka, Minnesota (“AMS”). The complaint alleges violations of section 337 of the Tariff Act of 1930 (19 U.S.C. 1337) in the importation into the United States, the sale for importation, and the sale within the United States after importation of certain catheters, consoles, and other apparatus for cryosurgery, and components thereof, that infringe certain claims of U.S. Patent Nos. 6,471,694; 6,572,610; and RE 40,049. The respondent is CryoCath Technologies, Inc. of Quebec, Canada (“CryoCath”). 73 FR 17998 (Apr. 2, 2008); 73 FR 18562 (Apr. 4, 2008).

On September 25, 2008, complainants CryoCor and AMS and respondent CryoCath jointly moved to terminate the investigation based on a settlement agreement. On October 1, 2008, the Commission investigative attorney filed a response in support of the motion. On October 6, 2008, the ALJ determined to grant the motion based on his findings that the parties complied with the requirements of Commission rule 210.21(b) (19 CFR 210.21(b)) and that termination of the investigation on the basis of the settlement would not be contrary to the public health and welfare, competitive conditions in the United States economy, the production of like or directly competitive articles in the United States, or United States consumers. No petitions for review of the subject ID were filed.

The Commission has determined not to review this ID.

The authority for the Commission's determination is contained in section 337 of the Tariff Act of 1930, as amended (19 U.S.C. 1337), and section 210.42 of the Commission's Rules of Practice and Procedure (19 CFR 210.42).

By order of the Commission.
Issued: October 23, 2008.
Marilyn R. Abbott,
Secretary to the Commission.

[FR Doc. E8-25790 Filed 10-28-08; 8:45 am]

BILLING CODE 7020-02-P